DEPARTMENT OF COMMERCE

International Trade Administration

[A-823-810]

Antidumping Duty Order: Solid Agricultural Grade Ammonium Nitrate From Ukraine

AGENCY: Import Administration, International Trade Administration, Department of Commerce.

ACTION: Notice of antidumping duty order.

EFFECTIVE DATE: September 12, 2001.

FOR FURTHER INFORMATION CONTACT: Jarrod Goldfeder, Melani Miller, or Anthony Grasso, Import Administration, International Trade Administration, U.S. Department of Commerce, 14th Street and Constitution Avenue, NW., Washington, DC 20230; telephone: (202) 482-0189, (202) 482-0116, or (202) 482-3853, respectively.

The Applicable Statute and Regulations

Unless otherwise indicated, all citations to the Tariff Act of 1930, as amended (“the Act”), are references to the provisions effective January 1, 1995, the effective date of the amendments made to the Act by the Uruguay Round Agreements Act. In addition, unless otherwise indicated, all citations to the Department of Commerce (“the Department”) regulations are to the regulations at 19 CFR part 351 (April 2000).

Scope of Order

The products covered by this antidumping duty order are solid, fertilizer grade ammonium nitrate (“ammonium nitrate” or “subject merchandise”) products, whether prilled, granular or in other solid form, with or without additives or coating, and with a bulk density equal to or greater than 53 pounds per cubic foot. Specifically excluded from this scope is solid ammonium nitrate with a bulk density less than 53 pounds per cubic foot (commonly referred to as industrial or explosive grade ammonium nitrate). The merchandise subject to this investigation is classified in the Harmonized Tariff Schedule of the United States (“HTSUS”) at subheading 3102.30.00.00. Although the HTSUS subheadings are provided for convenience and for purposes of the Customs Service, the written description of the merchandise under investigation is dispositive.

Antidumping Duty Order

On July 25, 2001, the Department published in the Federal Register the Notice of Final Determination of Sales At Less Than Fair Value: Solid Agricultural Grade Ammonium Nitrate From Ukraine, 66 FR 38632 (July 25, 2001) (“Final Determination”).

On August 31, 2001, in accordance with section 735(d) of the Act, the U.S. International Trade Commission (“ITC”) notified the Department that a U.S. industry is “materially injured,” within the meaning of section 735(b)(1)(A)(i) of the Act, by reason of less-than-fair-value imports of ammonium nitrate from Ukraine.

Therefore, in accordance with section 736(a)(1) of the Act, the Department will direct the Customs Service to assess, upon further advice by the Department, antidumping duties equal to the amount by which the normal value of the subject merchandise exceeds the export price or constructed export price of the subject merchandise for all entries of ammonium nitrate from Ukraine. Antidumping duties will be assessed on all unliquidated entries of ammonium nitrate from Ukraine entered, or withdrawn from warehouse, for consumption on or after March 5, 2001, the date of publication of the Department's preliminary determination in the Federal Register. See Notice of Preliminary Determination of Sales at Less Than Fair Value and Postponement of Final Determination: Solid Agricultural Grade Ammonium Nitrate From Ukraine, 66 FR 13286 (March 5, 2001).

The ITC further found that critical circumstances do not exist with respect to imports of the subject merchandise from Ukraine. As a result, the Department will direct Customs officers to refund any cash deposits made, or bonds posted, pursuant to the Department's affirmative determination of critical circumstances for all merchandise produced/exported by all Ukrainian companies which were entered on or after December 5, 2000 (which is 90 days prior to the Department's preliminary determination publication date of March 5, 2001) and before March 5, 2001.

On or after the date of publication of this notice in the Federal Register, Customs officers must require, at the same time as importers would normally deposit estimated duties, cash deposits for the subject merchandise equal to the weighted-average antidumping duty margins as noted below. The “Ukraine-wide Rate” applies to all exporters of ammonium nitrate not specifically listed below:

Exporter/manufacturer | Weighted-average margin percentage
J.S.C. “Concern” Stirol | 156.29
Ukraine-wide Rate | 156.29

This notice constitutes the antidumping duty order with respect to ammonium nitrate from Ukraine, pursuant to section 735(a) of the Act. Interested parties may contact the Central Records Unit, Room B-099 of the Main Commerce Building for copies of an updated list of antidumping duty orders currently in effect.

This order is published in accordance with sections 736(a) and 19 CFR 351.211.

Dated: September 6, 2001.
Richard W. Moreland,
Acting Assistant Secretary for Import Administration.

[FR Doc. 01-22934 Filed 9-11-01; 8:45 am]

BILLING CODE 3510-DS-P